EXPORT-IMPORT BANK

Privacy Act System of Records Notice; EIB 14-01 Financial Management System—Next Generation (FMS_NG)

ACTION: Notice of new electronic System of Records—EIB 14-01 Financial Management System—Next Generation (FMS_NG).

SUMMARY: Ex-Im Bank proposes to add a new electronic System of Records, Financial Management System—Next Generation (FMS_NG), subject to the Privacy Act of 1974 (5 U.S.C. 522a), as amended. This notice is necessary to meet the requirements of the Privacy Act which is to publish in the Federal Register a notice of the existence and character of records maintained by the agency (5 U.S.C. 522s(e)(4)). Included in this notice is the System of Records Notice (SORN) for FMS-NG The system will become operational in the next 60 days.

DATES: This action will be effective without further notice on October 1, 2014 unless comments are received that would result in a contrary determination.

ADDRESSES: Comments may be submitted electronically on www.regulations.gov or by mail to John Lowry, Export-Import Bank of the United States, 811 Vermont Ave. NW., Washington, DC 20571.

SUPPLEMENTARY INFORMATION: The Financial Management System—Next Generation (FMS-NG) supports flexible financial accounting, control and disbursement of funds, management accounting, and financial report processes.

Kalesha Malloy, Agency Clearance Officer

System of Records Notice

EIB 14-01 Financial Management System—Next Generation (FMS_NG)

1. System Identifier: EXIM/FMS-NG

2. System Name: EIB 14-01 Financial Management System—Next Generation

3. Security Classification:

Unclassified

4. System Location:

This electronic system will be used via a web interface by the Export-Import Bank staff from the Headquarters of the Export-Import Bank of the United States, 811 Vermont Avenue NW., Washington, DC 20571. The physical location and technical operation of the system is at the Oracle's Managed Cloud Services' (MCS) facility in Austin, Texas.

5. Categories of Individuals covered by this system:

The FMS-NG system will contain information on Ex-Im Bank customers, employees, contractors, vendors, and invitational travelers who have been asked to speak at or attend a function at the request of Ex-Im Bank and who are seeking reimbursements for expenses incurred.

6. Categories of records in the system:

FMS-NG will contain customer information related to the financial obligations of the Bank to and from individuals and corporate entities from the point of obligation through the point of final disbursement and provides complete loan and guarantee servicing over the entire life of a credit. The FMS-NG system will contain Personally Identifiable Information (PII) on Ex-Im Bank employees and public individuals that incurred expenses pre-authorized for reimbursement, Ex-Im product applicants, contracted suppliers, and other business partners.

The following Table 1, Categories of Records in the FMS-NG System lists significant data categories contained in the system. Only the Administrative categories may contain PII data. The Category of Bank Products is normally used by larger corporate entities and is unlikely to contain PII for sole proprietors of businesses or other individuals.

Table 1—Categories of Records in the FMS-NG System
Bank products
Rescheduled Loan
Project Finance Loan
Aircraft Financing Loan
Tied Aid Loan
Renewable Express Loan
Global Credit Express
Letter of Credit for a Direct Loan
Working Capital Guarantee
Standard Guarantee
Credit Guarantee Facility
Finance Lease Guarantee
Project Finance Guarantee
Aircraft Finance Guarantee
Co-Financing Guarantee
Renewable Express Guarantee
Supply Chain Guarantee
Administrative records
Budget based on object class and fund segment.
Procurement purchase order
Inter-Agency Agreements
Payments to Administrative Suppliers
Procurement Card
Travel purchase order
Payment Vouchers
Refunds
Sponsored Travel
Petty Cash
Employee Debt
Conference fee collections
General Ledger

Table 2—Representative PII Data Elements Within Administrative Records
PII Data elements
ACCOUNT_HOLDER_NAME
ACCTTYPEID
ADDRESSID
BANK_ACCOUNT_NAME
BANKACCOUNTID
BANKSWIFTCODE
BRANCHID
BRANCHNAME
CHECK_DIGITS
PARENT_VENDOR_ID
PARENT_VENDOR_NAME
TAX_ID
VENDOR_ID
VENDOR_NAME
VENDOR_NAME_ALT
VENDOR_NUMBER

7. Authority for maintenance of the system:

The Export-Import Bank requests the information in this application under the following authorizations:

Authority of the Export-Import Bank Act of 1945, as amended (12 U.S.C. 635 et seq.), Executive Order 9397 as amended by Executive Order 13478 signed by President George W. Bush on November 18, 2008, relating to Federal agency use of Social Security numbers.

8. Purpose:

The Financial Management System-Next Generation (FMS-NG) is a custom configured Commercial off the Shelf (COTS) solution, which supports flexible financial accounting, control and disbursement of funds, management accounting, loan and guarantee servicing, and financial report processes. More specifically, the FMS-NG maintains the Ex-Im Bank's spending budget, supports buying of goods and services, vendor payments, records general ledger entries, reports to Department of Treasury and the Office of Management and Budget (OMB), verifies data accuracy, properly clears and closes ledgers and journals, and provides complete loan and guarantee servicing over the entire life of a credit.

FMS-NG is comprised of the following functional modules:

• Budget execution,

• accounts payable,

• accounts receivable,

• general ledger,

• purchasing, and

• processing of loans and guarantees related financial data

9. Routine Uses of Records Maintained in the System; Including Categories of Users and the Purposes of Such Uses:

In addition to those disclosures that are generally permitted under 5 U.S.C. 552a(b) of the Privacy Act, all or a portion of the records or information contained in this system may be disclosed to authorized entities, as is determined to be relevant and necessary, outside Ex-Im Bank as a routine use pursuant to 5 U.S.C. 552a(b)(3) as follows:

a. For the Bank employees to support buying of goods and services;

b. For the Bank employees to support vendor payments;

c. To disclose information for audits and oversight purposes performed by Export-Import Bank employees, report to the Department of Treasury and the Office of Management and Budget in Monthly, Quarterly, Semi-annual, and Annual reporting;

d. To provide information to a Congressional Office from the record of an individual in response to an inquiry from that Office;

e. Sharing data with contractors, grantees, and experts to perform OPM-authorized activities, including performing and monitoring of select business transactions;

f. For investigations of potential violations of law;

g. By Export-Import Bank employees to collect information from third parties including credit reporting agencies and to collect credit scores to establish credit worthiness of applicants;

h. To disclose information to Export-Import Bank contractors in support of Export-Import Bank authorized activities;

i. For litigation;

j. By National Archives and Records Administration for record management inspections in its role as Archivist;

k. For data breach and mitigation response.

l. To disclose pertinent information to the appropriate Federal, State, or local agency responsible for investigating, prosecuting, enforcing, or implementing a statute, rule, regulation or another purpose, when the disclosing agency becomes aware of an indication of a violation or potential violation of civil or criminal law or regulations.

10. Disclosure to consumer reporting agencies.

Export-Import Bank may report its credit experience to the applicable commercial consumer reporting agencies (credit bureaus), such as: Dun & Bradstreet, FICO, and TransUnion.

11. Storage.

The records reside in the data tables of the FMS-NG System implemented in the Oracle® U.S. Federal Financials Release 12, a COTS integrated financial management application from Oracle Corporation.

12. Retrievability:

Information may be retrieved by transaction number, business entity or individual name, EIN or SSN, D&B number.

13. Safeguards:

Information will be stored in electronic format within the FMS-NG. FMS-NG has configurable Responsibilities-based (processes and data) user access rules. User access is granted only to the authorized internal users. The authorized FMS-NG users will have restricted access only to the data subset necessary to perform their job function. This access is managed via Oracle Applications System Administration, User and Responsibility security functions. FMS-NG underlying application—Oracle Federal Financials, is compliant with the Federal Risk and Authorization Management Program (FedRAMP). The PII information in FMS-NG will be stored encrypted in place. Https protocol is employed in accessing FMS-NG.

14. Retention and disposal:

Retention and disposition handling of the records contained in the FMS-NG will comply with the Export-Import Bank's Record Schedule for FMS-NG Electronic Records System DAA-0275-2014-0002. The schedule has been proposed for approval by the Ex-Im Bank in the Electronic Records Archives (ERA) system of the National Archives and Records Administration (NARA).

15. System Manager and Address:

Vice President—Controller Office of the CFO, Export-Import Bank of the United States, 811 Vermont Ave. NW., Washington, DC 20571.

16. Notification Procedure:

Individuals wishing to determine whether this system of records contains information about them may do so by writing to:

Vice President—Controller Office of the CFO, Export-Import Bank of the United States, 811 Vermont Ave. NW., Washington, DC 20571.

And provide the following information:

1. Name.

2. Employer Identification Number (EIN) or Social Security Number, as applicable.

3. Type of information requested.

4. Address to which the information should be sent.

5. Signature.

17. Record access procedure:

Individuals wishing to make an amendment of records about them should write to:

Vice President—Controller Office of the CFO, Export-Import Bank of the United States, 811 Vermont Ave. NW., Washington, DC 20571.

And provide the following information:

1. Name.

2. Employer Identification Number (EIN) or Social Security Number, as applicable.

3. Type of information requested.

4. Signature.

18. Contesting record procedures:

Individuals wishing to contest records about them should write to:

Vice President—Controller Office of the CFO, Export-Import Bank of the United States, 811 Vermont Ave. NW., Washington, DC 20571.

And provide the following information:

1. Name.

2. Employer Identification Number (EIN) or Social Security Number, as applicable.

3. Signature.

4. Precise identification of the information to be amended.

19. Record Source Categories:

The record information contained in the FMS-NG is obtained using one of three methods: manual entry, direct database connection to supply the required information, and through consumption of source flat files imported using PLSQL procedural upload to the FMS-NG database.

20. Exemptions claimed for the system:

None.

[FR Doc. 2014-19571 Filed 8-18-14; 8:45 am]

BILLING CODE 6690-01-P